NATIONAL CREDIT UNION ADMINISTRATION

Renewal of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions and revisions of currently approved collections to the Office of Management and Budget (OMB) for renewal.

DATES: Written comments should be received on or before July 22, 2024 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting at (703) 718-1155, emailing PRAComments@ncua.gov, or viewing the entire information collection request at www.reginfo.gov.

SUPPLEMENTARY INFORMATION:

OMB Number: 3133-.

Title:

Type of Review:

Abstract: Dodd Frank Act amended section 308 of the FIRREA to require NCUA, Office of the Comptroller of Currency, and the Federal Reserve Board to establish a program to comply with its goals to preserve and encourage Minority Depository Institutions (MDIs). The NCUA Board issued Interpretive Ruling and Policy Statement (IRPS) 13-1 establishing a MDI preservation program to comply with FIRREA section 308 goals. The IRPS identifies the procedure for a federally insured credit union to determine and document its ability to designate itself as a MDI, resulting in the ability to participate in the Program.

Affected Public: Private Sector: Not-for-profit institutions.

Estimated Number of Respondents: 492.

Estimated Number of Responses per Respondent: 1.

Estimated Total Annual Responses: 492.

Estimated Hours per Response: 0.745934959.

Estimated Total Annual Burden Hours: 367.

Reason for Change: The number of respondents increased and the estimated annual burden hours increased.

OMB Number: 3133-.

Title:

Type of Review:

Abstract: This collection of information is set forth in NCUA regulations at 12 CFR part 760 and is required by the National Flood Insurance Reform Act of 1994's amendments to the National Flood Insurance Act of 1968 and the Flood Disaster Protection Act of 1973 (Flood Act). 42 U.S.C. 4001 et seq. The collection of information pertains to loans secured by buildings and mobile homes located or to be located in areas determined by the Director of the Federal Emergency Management Agency (FEMA) to have special flood hazards.

Affected Public: Private Sector: Not-for-profit institutions.

Estimated Number of Respondents: 3,229.

Estimated Number of Responses per Respondent: 522.600497.

Estimated Total Annual Responses: 1,687,477.

Estimated Hours per Response: 0.060062448.

Estimated Total Annual Burden Hours: 101,354.

Reason for Change: The number of respondents decreased, and the estimated annual burden hours decreased.

OMB Number: 3133-.

Title:

Type of Review:

Abstract: The National Credit Union Administration (NCUA) Federal Credit Union Act, 12 U.S.C. 1757(7), 1757(8), 1757(15), lists securities, deposits, and other obligations in which a Federal Credit Union (FCU) may invest. The regulations related to these areas are contained in part 703 and section 721.3 of the NCUA Rules and Regulations which set forth requirements related to maintaining an adequate investment program. The information collected is used by the NCUA to determine compliance with the appropriate sections of the NCUA Rules and Regulations and Federal Credit Union Act, which governs investment and deposit activities on the basis of safety and soundness concerns. It is used to determine the level of risk that exists within a credit union, the actions taken by the credit union to mitigate such risk, and helps prevent losses to federal credit unions and the National Credit Union Share Insurance Fund (NCUSIF).

Affected Public: Private Sector: Not-for-profit institutions.

Estimated Number of Respondents: 4,604.

Estimated Number of Responses per Respondent: 33.283666.

Estimated Total Annual Responses: 153,238.

Estimated Hours per Response: 0.326674846.

Estimated Total Annual Burden Hours: 50,059.

Reason for Change: The number of respondents increased, and the estimated annual burden hours decreased.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-13504 Filed 6-18-24; 8:45 am]

BILLING CODE 7535-01-P